DEPARTMENT OF JUSTICE

[OMB Number 1190-0008]

Agency Information Collection Activities; Proposed eCollection eComments Requested; Extension of a Previously Approved Collection; Complaint Form, Federal Coordination and Compliance Section

AGENCY: Civil Rights Division, Department of Justice.

ACTION: 60-Day notice.

SUMMARY: The Department of Justice (DOJ), Civil Rights Division, will be submitting the following information collection request to the Office of Management and Budget (OMB) for review and approval in accordance with the Paperwork Reduction Act of 1995.

DATES: Comments are encouraged and will be accepted for 60 days until July 18, 2023.

FOR FURTHER INFORMATION CONTACT: If you have additional comments especially on the estimated public burden or associated response time, suggestions, or need a copy of the proposed information collection instrument with instructions or additional information, please contact Christine Stoneman, Acting Chief, Federal Coordination and Compliance Section, 950 Pennsylvania Avenue NW-4CON, Washington, DC 20002, phone: 202-307-2222.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Authorized by Title VI of the Civil Rights Act, 1964, 42 U.S.C. 2000d and the Antidiscrimination provision of the Omnibus Crime Control and Safe Streets Act, 28 U.S.C. 42.101 et seq., this collection of information is used to find jurisdiction to investigate the alleged discrimination, to seek whether a referral to another agency is necessary, and to provide information needed to initiate investigation of the complaint.

Overview of This Information Collection

1. Type of Information Collection: Extension of a previously approved collection.

2. The Title of the Form/Collection: Complaint Form, Federal Coordination and Compliance Section.

3. The agency form name/number, if any, and the applicable component of the Department sponsoring the collection: Form: FCS Complaint and Consent Form.

4. Affected public who will be asked or required to respond, as well as the obligation to respond: Affected Public: Individuals or households. Obligation is voluntary.

5. An estimate of the total number of respondents and the amount of time estimated for an average respondent to respond: An estimated 4,000 respondents will respond once a year to this collection. The time per response is 30 minutes.

6. An estimate of the total annual burden (in hours) associated with the collection: The estimated public burden is 2,000 hours.

7. An estimate of the total annual cost burden associated with the collection, if applicable: The annual cost burden associated with this collection is $0.

Total Burden Hours
Activity | Number of respondents | Frequency | Total annual responses | Time per response (hours) | Total annual burden (hours)
FCS Complaint and Consent Form | 4,000 | 1 | 4,000 | .5 | 2,000
Unduplicated Totals | 4,000 |  | 4,000 |  | 2,000

If additional information is required contact: John R. Carlson, Department Clearance Officer, United States Department of Justice, Justice Management Division, Policy and Planning Staff, Two Constitution Square, 145 N Street NE, 4W-218, Washington, DC.

Dated: May 15, 2023.
John Carlson,
Department Clearance Officer for PRA, U.S. Department of Justice.

[FR Doc. 2023-10693 Filed 5-18-23; 8:45 am]

BILLING CODE 4410-13-P